NUCLEAR REGULATORY COMMISSION

Sunshine Act Meeting Notice

Date: Weeks of September 11, 18, 25, October 2, 9, 16, 2006.

Place: Commissioners' Conference Room, 11555 Rockville Pike, Rockville, Maryland.

Status: Public and closed.

Matters to be Considered:

Week of September 11, 2006

Monday, September 11, 2006

9:30 a.m.

Discussion of Security Issues (Closed—Ex. 1).

1:30 p.m.

Discussion of Security Issues (Closed—Ex. 1 & 3).

Tuesday, September 12, 2006

9:30 a.m.

Meeting with Organization of Agreement States (OAS) and Conference of Radiation Control Program Directors (CRCPD) (Public Meeting) (Contact: Shawn Smith, 301-415-2620).

This meeting will be webcast live at the Web address— http://www.nrc.gov.

1 p.m.

Discussion of Security Issues (Closed—Ex. 1).

Week of September 18, 2006—Tentative

There are no meetings scheduled for the Week of September 18, 2006.

Week of September 25, 2006—Tentative

There are no meetings scheduled for the Week of September 25, 2006.

Week of October 2, 2006—Tentative

There are no meetings scheduled for the Week of October 2, 2006.

Week of October 9, 2006—Tentative

There are no meetings scheduled for the Week of October 9, 2006.

Week of October 16, 2006—Tentative

Monday, October 16, 2006

9:30 a.m.

Briefing on Status of New Reactor Issues—Combined Operating Licenses (COLS) (morning session).

1:30 p.m.

Briefing on Status of New Reactor Issues—Combined Operating Licenses (COLS) (afternoon session).

(Public Meetings) (Contact: Dave Matthews, 301-415-1199).

These meetings will be webcast live at the Web address— http://www.nrc.gov.

Friday, October 20, 2006

2:30 p.m.

Meeting with Advisory Committee on Reactor Safeguards (ACRS) (Public Meeting) (Contact: John Larkins, 301-415-7360).

This meeting will be webcast live at the Web address— http://www.nrc.gov.

The schedule for Commission meeting is subject to change on short notice. To verify the status of meetings call (recording)—(301) 415-1292. Contact person for more information: Michelle Schroll, (301) 415-1662.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

This notice is distributed by mail to several hundred subscribers: if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 7, 2006.
R. Michelle Schroll,
Office of the Secretary.

[FR Doc. 06-7603 Filed 9-8-06; 9:57 am]

BILLING CODE 7590-01-M